DEPARTMENT OF HEALTH AND HUMAN SERVICES

Substance Abuse and Mental Health Services Administration

Center for Substance Abuse Prevention; Notice of Meeting

Pursuant to Public Law 92-463, notice is hereby given that the Substance Abuse and Mental Health Services Administration's (SAMHSA) Center for Substance Abuse Prevention (CSAP) Drug Testing Advisory Board (DTAB) will meet via web conference on May 20, 2016, from 10:00 a.m. to 4:30 p.m. E.D.T. The DTAB will convene in both open and closed sessions.

On May 20, 2016, from 10:00 a.m. to 12:30 p.m., the meeting will be open to the public. The meeting will include drug testing updates from the Department of Transportation, the Nuclear Regulatory Commission, the Department of Defense, and the Federal Drug-Free Workplace Programs.

The public is invited to attend via web conference. Due to the limited call-in capacity, registration is requested. Public comments are welcome. To obtain the web conference call-in numbers and access codes, submit written or brief oral comments, or request special accommodations for persons with disabilities, please register at the SAMHSA Advisory Committees Web site at http://nac.samhsa.gov/Registration/meetingsRegistration.aspx or contact the Charles LoDico (see contact information below).

The Board will meet in closed session on May 20, 2016, from 1:00 p.m. to 4:30 p.m., to review and discuss the Proposed Revisions to the Mandatory Guidelines for Federal Workplace Drug Testing Programs (Urine and Oral Fluid). Therefore, this meeting is closed to the public as determined by the Administrator, SAMHSA, in accordance with 5 U.S.C. 552b(c)(9)(B) and 5 U.S.C. App. 2, Section 10(d).

Meeting information and a roster of DTAB members may be obtained by accessing the SAMHSA Advisory Committees Web site, http://www.samhsa.gov/about-us/advisory-councils/drug-testing-advisory-board-dtab, or by contacting Mr. LoDico.

Committee Name: Substance Abuse and Mental Health Services Administration's, Center for Substance Abuse Prevention, Drug Testing Advisory Board.

Dates/Time/Type:

May 20, 2016, from 10:00 a.m. to 12:30 p.m. E.D.T.: OPEN.

May 20, 2016, from 1:00 p.m. to 4:30 p.m. E.D.T.: CLOSED.

Place: Parklawn Building, 5600 Fishers Lane, Rockville, Maryland 20857.

Contact: Charles LoDico, M.S., F-ABFT, Division of Workplace Programs, 5600 Fishers Lane, Room 16N02C, Rockville, Maryland 20857, Telephone: 240-276-2600, Fax: 240-276-2610, Email: charles.lodico@samhsa.hhs.gov.

Summer King,
Statistician, Substance Abuse and Mental Health Services Administration.

[FR Doc. 2016-09197 Filed 4-20-16; 8:45 am]

BILLING CODE 4162-20-P